DEPARTMENT OF HEALTH AND HUMAN SERVICES

Health Care Financing Administration

[HCFA-1147-CN]

RIN 0938-AK51

Medicare Program; Update to the Prospective Payment System for Home Health Agencies for FY 2002; Correction

AGENCY: Health Care Financing Administration (HCFA), HHS.

ACTION: Notice with comment period; correction.

SUMMARY: We published a notice with comment period in the Federal Register on June 29, 2001, setting forth an update to the 60-day national episode rates and the national per-visit amounts under the Medicare prospective payment system for home health agencies. The document was missing the addenda for the rural and urban hospital wage indexes. This notice corrects the June 29, 2001 document by adding the addenda.

EFFECTIVE DATE: October 1, 2001.

FOR FURTHER INFORMATION CONTACT:

Bob Wardwell, Project Manager, (410) 786-3254.

Susan Levy, Policy, (410) 786-9364.

SUPPLEMENTARY INFORMATION:

Correction

In the Federal Register of June 29, 2001 in FR Doc. 01-16384, we published a notice with comment period setting forth an update to the 60-day national episode rates and the national per-visit amounts under the Medicare prospective payment system for home health agencies. The document was missing the addenda for the rural and urban hospital wage indexes. This notice corrects the June 29, 2001 document by adding the addenda.

Attachments

Addendum A—FY 2001 Wage Index For Rural Areas—Pre-floor and Pre-reclassified

Addendum B—FY 2001 Wage Index For Urban Areas—Pre-floor and Pre-reclassified

Addendum A_FY 2001 Wage Index for Rural Areas—Pre-floor and Pre-reclassified

Wage Index for Rural Areas
Nonurban area | Wage Index
Alabama | 0.7489
Alaska | 1.2392
Arizona | 0.8317
Arkansas | 0.7445
California | 0.9861
Colorado | 0.8968
Connecticut | 1.1715
Delaware | 0.9074
Florida | 0.8919
Georgia | 0.8329
Guam | 0.9611
Hawaii | 1.1059
Idaho | 0.8678
Illinois | 0.8160
Indiana | 0.8602
Iowa | 0.8030
Kansas | 0.7605
Kentucky | 0.7931
Louisiana | 0.7681
Maine | 0.8766
Maryland | 0.8651
Massachusetts | 1.1204
Michigan | 0.8987
Minnesota | 0.8881
Mississippi | 0.7491
Missouri | 0.7698
Montana | 0.8688
Nebraska | 0.8109
Nevada | 0.9232
New Hampshire | 0.9845
New Jersey ¹
New Mexico | 0.8479
New York | 0.8499
North Carolina | 0.8441
North Dakota | 0.7716
Ohio | 0.8670
Oklahoma | 0.7491
Oregon | 1.0132
Pennsylvania | 0.8578
Puerto Rico | 0.4264
Rhode Island ¹
South Carolina | 0.8370
South Dakota | 0.7570
Tennessee | 0.7838
Texas | 0.7502
Utah | 0.9037
Vermont | 0.9274
Virginia | 0.8189
Virgin Islands | 0.6306
Washington | 1.0434
West Virginia | 0.8231
Wisconsin | 0.8880
Wyoming | 0.8817
¹ All counties within the State are classified as urban.

Addendum B—FY 2001 Wage Index For Urban Areas—Pre-floor and Pre-reclassified

MSA | Urban area (Constituent counties) | Wage index
0040 | Abilene, TX | 0.8240
| Taylor, TX
0060 | Aguadilla, PR | 0.4391
| Aguada, PR
| Aguadilla, PR
| Moca, PR
0080 | Akron, OH | 0.9736
| Portage, OH
| Summit, OH
0120 | Albany, GA | 0.9933
| Dougherty, GA
| Lee, GA
0160 | Albany-Schenectady-Troy, NY | 0.8549
| Albany, NY
| Montgomery, NY
| Rensselaer, NY
| Saratoga, NY
| Schenectady, NY
| Schoharie, NY
0200 | Albuquerque, NM | 0.9136
| Bernalillo, NM
| Sandoval, NM
| Valencia, NM
0220 | Alexandria, LA | 0.8123
| Rapides, LA
0240 | Allentown-Bethlehem-Easton, PA | 0.9925
| Carbon, PA
| Lehigh, PA
| Northampton, PA
0280 | Altoona, PA | 0.9346
| Blair, PA
0320 | Amarillo, TX Potter, TX | 0.8715
| Randall, TX
0380 | Anchorage, AK | 1.2793
| Anchorage, AK
0440 | Ann Arbor, MI | 1.1254
| Lenawee, MI
| Livingston, MI
| Washtenaw, MI
0450 | Anniston, AL | 0.8284
| Calhoun, AL
0460 | Appleton-Oshkosh-Neenah, WI | 0.9052
| Calumet, WI
| Outagamie, WI
| Winnebago, WI
0470 | Arecibo, PR | 0.4525
| Arecibo, PR
| Camuy, PR
| Hatillo, PR
0480 | Asheville, NC | 0.9516
| Buncombe, NC
| Madison, NC
0500 | Athens, GA | 0.9739
| Clarke, GA
| Madison, GA
| Oconee, GA
0520 | Atlanta, GA | 1.0096
| Barrow, GA
| Bartow, GA
| Carroll, GA
| Cherokee, GA
| Clayton, GA
| Cobb, GA
| Coweta, GA
| DeKalb, GA
| Douglas, GA
| Fayette, GA
| Forsyth, GA
| Fulton, GA
| Gwinnett, GA
| Henry, GA
| Newton, GA
| Paulding, GA
| Pickens, GA
| Rockdale, GA
| Spalding, GA
| Walton, GA
0560 | Atlantic-Cape May, NJ Atlantic, NJ Cape May, NJ | 1.1182
0580 | Auburn-Opelka, AL | 0.8106
| Lee, AL
0600 | Augusta-Aiken, GA-SC | 0.9160
| Columbia, GA
| McDuffie, GA
| Richmond, GA
| Aiken, SC
| Edgefield, SC
0640 | Austin-San Marcos, TX | 0.9577
| Bastrop, TX
| Caldwell, TX
| Hays, TX
| Travis, TX
| Williamson, TX
0680 | Bakersfield, CA | 0.9678
| Kern, CA
0720 | Baltimore, MD | 0.9365
| Anne Arundel, MD
| Carroll, MD
| Harford, MD
| Howard, MD
| Queen Anne's, MD
0733 | Bangor, ME | 0.9561
| Penobscot, ME
0743 | Barnstable-Yarmouth, MA | 1.3839
| Barnstable, MA
0760 | Baton Rouge, LA | 0.8842
| Ascension, LA
| East Baton Rouge, LA
| Livingston, LA
| West Baton Rouge, LA
0840 | Beaumont-Port Arthur, TX | 0.8744
| Hardin, TX
| Jefferson, TX
| Orange, TX
0860 | Bellingham, WA | 1.1439
| Whatcom, WA
0870 | Benton Harbor, MI | 0.8671
| Berrien, MI
0875 | Bergen-Passaic, NJ | 1.1848
| Bergen, NJ
| Passaic, NJ
0880 | Billings, MT | 0.9585
| Yellowstone, MT
0920 | Biloxi-Gulfport-Pascagoula, MS | 0.8236
| Hancock, MS
| Harrison, MS
| Jackson, MS
0960 | Binghamton, NY | 0.8690
| Broome, NY
| Tioga, NY
1000 | Birmingham, AL | 0.8452
| Blount, AL
| Jefferson, AL
| St. Clair, AL
| Shelby, AL
1010 | Bismarck, ND | 0.7705
| Burleigh, ND
| Morton, ND
1020 | Bloomington, IN | 0.8733
| Monroe, IN
1040 | Bloomington-Normal, IL | 0.9095
| McLean, IL
1080 | Boise City, ID | 0.9006
| Ada, ID
| Canyon, ID
1123 | Boston-Worcester-Lawrence-Lowell-Brockton, MA-NH | 1.1160
| Bristol, MA
| Essex, MA
| Middlesex, MA
| Norfolk, MA
| Plymouth, MA
| Suffolk, MA
| Worcester, MA
| Hillsborough, NH
| Merrimack, NH
| Rockingham, NH
| Strafford, NH
1125 | Boulder-Longmont, CO | 0.9731
| Boulder, CO
1145 | Brazoria, TX | 0.8658
| Brazoria, TX
1150 | Bremerton, WA | 1.0975
| Kitsap, WA
1240 | Brownsville-Harlingen-San Benito, TX | 0.8722
| Cameron, TX
1260 | Bryan-College Station, TX | 0.8237
| Brazos, TX
1280 | Buffalo-Niagara Falls, NY | 0.9580
| Erie, NY
| Niagara, NY
1303 | Burlington, VT | 1.0735
| Chittenden, VT
| Franklin, VT
| Grand Isle, VT
1310 | Caguas, PR | 0.4562
| Caguas, PR
| Cayey, PR
| Cidra, PR
| Gurabo, PR
| San Lorenzo, PR
1320 | Canton-Massillon, OH | 0.8584
| Carroll, OH
| Stark, OH
1350 | Casper, WY | 0.8724
| Natrona, WY
1360 | Cedar Rapids, IA | 0.8736
| Linn, IA
1400 | Champaign-Urbana, IL | 0.9198
| Champaign, IL
1440 | Charleston-North Charleston, SC | 0.9038
| Berkeley, SC
| Charleston, SC
| Dorchester, SC
1480 | Charleston, WV | 0.9240
| Kanawha, WV
| Putnam, WV
1520 | Charlotte-Gastonia-Rock Hill, NC-SC | 0.9391
| Cabarrus, NC
| Gaston, NC
| Lincoln, NC
| Mecklenburg, NC
| Rowan, NC
| Stanly, NC
| Union, NC
| York, SC
1540 | Charlottesville, VA | 1.0789
| Albemarle, VA
| Charlottesville City, VA
| Fluvanna, VA
| Greene, VA
1560 | Chattanooga, TN-GA | 0.9833
| Catoosa, GA
| Dade, GA
| Walker, GA
| Hamilton, TN
| Marion, TN
1580 | Cheyenne, WY | 0.8308
| Laramie, WY
1600 | Chicago, IL | 1.1146
| Cook, IL
| DeKalb, IL
| DuPage, IL
| Grundy, IL
| Kane, IL
| Kendall, IL
| Lake, IL
| McHenry, IL
| Will, IL
1620 | Chico-Paradise, CA | 0.9918
| Butte, CA
1640 | Cincinnati, OH-KY-IN | 0.9415
| Dearborn, IN
| Ohio, IN
| Boone, KY
| Campbell, KY
| Gallatin, KY
| Grant, KY
| Kenton, KY
| Pendleton, KY
| Brown, OH
| Clermont, OH
| Hamilton, OH
| Warren, OH
1660 | Clarksville-Hopkinsville, TN-KY | 0.8204
| Christian, KY
| Montgomery, TN
1680 | Cleveland-Lorain-Elyria, OH | 0.9597
| Ashtabula, OH
| Cuyahoga, OH
| Geauga, OH
| Lake, OH
| Lorain, OH
| Medina, OH
1720 | Colorado Springs, CO | 0.9697
| El Paso, CO
1740 | Columbia, MO | 0.8961
| Boone, MO
1760 | Columbia, SC | 0.9554
| Lexington, SC
| Richland, SC
1800 | Columbus, GA-AL Russell, AL | 0.8568
| Chattahoochee, GA
| Harris, GA
| Muscogee, GA
1840 | Columbus, OH | 0.9619
| Delaware, OH
| Fairfield, OH
| Franklin, OH
| Licking, OH
| Madison, OH
| Pickaway, OH
1880 | Corpus Christi, TX | 0.8726
| Nueces, TX
| San Patricio, TX
1890 | Corvallis, OR | 1.1326
| Benton, OR
1900 | Cumberland, MD-WV | 0.8369
| Allegany, MD
| Mineral, WV
1920 | Dallas, TX | 0.9913
| Collin, TX
| Dallas, TX
| Denton, TX
| Ellis, TX
| Henderson, TX
| Hunt, TX
| Kaufman, TX
| Rockwall, TX
1950 | Danville, VA | 0.8589
| Danville City, VA
| Pittsylvania, VA
1960 | Davenport-Moline-Rock Island, IA-IL | 0.8898
| Scott, IA
| Henry, IL
| Rock Island, IL
2000 | Dayton-Springfield, OH | 0.9442
| Clark, OH
| Greene, OH
| Miami, OH
| Montgomery, OH
2020 | Daytona Beach, FL | 0.9200
| Flagler, FL
| Volusia, FL
2030 | Decatur, AL | 0.8534
| Lawrence, AL
| Morgan, AL
2040 | Decatur, IL | 0.8125
| Macon, IL
2080 | Denver, CO | 1.0181
| Adams, CO
| Arapahoe, CO
| Denver, CO
| Douglas, CO
| Jefferson, CO
2120 | Des Moines, IA | 0.9118
| Dallas, IA
| Polk, IA
| Warren, IA
2160 | Detroit, MI | 1.0510
| Lapeer, MI
| Macomb, MI
| Monroe, MI
| Oakland, MI
| St. Clair, MI
| Wayne, MI
2180 | Dothan, AL | 0.7943
| Dale, AL
| Houston, AL
2190 | Dover, DE | 1.0078
| Kent, DE
2200 | Dubuque, IA | 0.8746
| Dubuque, IA
2240 | Duluth-Superior, MN-WI | 1.0032
| St. Louis, MN
| Douglas, WI
2281 | Dutchess County, NY | 1.0249
| Dutchess, NY
2290 | Eau Claire, WI | 0.8790
| Chippewa, WI
| Eau Claire, WI
2320 | El Paso, TX | 0.9346
| El Paso, TX
2330 | Elkhart-Goshen, IN | 0.9145
| Elkhart, IN
2335 | Elmira, NY | 0.8546
| Chemung, NY
2340 | Enid, OK | 0.8610
| Garfield, OK
2360 | Erie, PA | 0.8985
| Erie, PA
2400 | Eugene-Springfield, OR | 1.0965
| Lane, OR
2440 | Evansville-Henderson, IN-KY | 0.8173
| Posey, IN
| Vanderburgh, IN
| Warrick, IN
| Henderson, KY
2520 | Fargo-Moorhead, ND-MN | 0.8749
| Clay, MN
| Cass, ND
2560 | Fayetteville, NC | 0.8655
| Cumberland, NC
2580 | Fayetteville-Springdale-Rogers, AR | 0.7910
| Benton, AR
| Washington, AR
2620 | Flagstaff, AZ-UT | 1.0686
| Coconino, AZ
| Kane, UT
2640 | Flint, MI | 1.1205
| Genesee, MI
2650 | Florence, AL | 0.7616
| Colbert, AL
| Lauderdale, AL
2655 | Florence, SC | 0.8777
| Florence, SC
2670 | Fort Collins-Loveland, CO | 1.0647
| Larimer, CO
2680 | Ft. Lauderdale, FL | 1.0121
| Broward, FL
2700 | Fort Myers-Cape Coral, FL | 0.9247
| Lee, FL
2710 | Fort Pierce-Port St. Lucie, FL | 0.9538
| Martin, FL
| St. Lucie, FL
2720 | Fort Smith AR-OK | 0.8052
| Crawford, AR
| Sebastian, AR
| Sequoyah, OK
2750 | Fort Walton Beach, FL | 0.9607
| Okaloosa, FL
2760 | Fort Wayne, IN | 0.8665
| Adams, IN
| Allen, IN
| De Kalb, IN
| Huntington, IN
| Wells, IN
| Whitley, IN
2800 | Fort Worth-Arlington, TX | 0.9527
| Hood, TX
| Johnson, TX
| Parker, TX
| Tarrant, TX
2840 | Fresno, CA | 1.0104
| Fresno, CA
| Madera, CA
2880 | Gadsden, AL | 0.8423
| Etowah, AL
2900 | Gainesville, FL | 1.0074
| Alachua, FL
2920 | Galveston-Texas City, TX | 0.9918
| Galveston, TX
2960 | Gary, IN | 0.9454
| Lake, IN
| Porter, IN
2975 | Glens Falls, NY | 0.8361
| Warren, NY
| Washington, NY
2980 | Goldsboro, NC | 0.8423
| Wayne, NC
2985 | Grand Forks, ND-MN | 0.8816
| Polk, MN
| Grand Forks, ND
2995 | Grand Junction, CO | 0.9109
| Mesa, CO
3000 | Grand Rapids-Muskegon-Holland, MI | 1.0248
| Allegan, MI
| Kent, MI
| Muskegon, MI
| Ottawa, MI
3040 | Great Falls, MT | 0.9065
| Cascade, MT
3060 | Greeley, CO | 0.9814
| Weld, CO
3080 | Green Bay, WI | 0.9225
| Brown, WI
3120 | Greensboro-Winston-Salem-High Point, NC | 0.9131
| Alamance, NC
| Davidson, NC
| Davie, NC
| Forsyth, NC
| Guilford, NC
| Randolph, NC
| Stokes, NC
| Yadkin, NC
3150 | Greenville, NC | 0.9384
| Pitt, NC
3160 | Greenville-Spartanburg-Anderson, SC | 0.9003
| Anderson, SC
| Cherokee, SC
| Greenville, SC
| Pickens, SC
| Spartanburg, SC
3180 | Hagerstown, MD | 0.9409
| Washington, MD
3200 | Hamilton-Middletown, OH | 0.9061
| Butler, OH
3240 | Harrisburg-Lebanon-Carlisle, PA | 0.9386
| Cumberland, PA
| Dauphin, PA
| Lebanon, PA
| Perry, PA
3283 | Hartford, CT | 1.1373
| Hartford, CT
| Litchfield, CT
| Middlesex, CT
| Tolland, CT
3285 | Hattiesburg, MS | 0.7490
| Forrest, MS
| Lamar, MS
3290 | Hickory-Morganton-Lenoir, NC | 0.9008
| Alexander, NC
| Burke, NC
| Caldwell, NC
| Catawba, NC
3320 | Honolulu, HI | 1.1863
| Honolulu, HI
3350 | Houma, LA | 0.8086
| Lafourche, LA
| Terrebonne, LA
3360 | Houston, TX | 0.9732
| Chambers, TX
| Fort Bend, TX
| Harris, TX
| Liberty, TX
| Montgomery, TX
| Waller, TX
3400 | Huntington-Ashland, WV-KY-OH | 0.9876
| Boyd, KY
| Carter, KY
| Greenup, KY
| Lawrence, OH
| Cabell, WV
| Wayne, WV
3440 | Huntsville, AL | 0.8932
| Limestone, AL
| Madison, AL
3480 | Indianapolis, IN | 0.9787
| Boone, IN
| Hamilton, IN
| Hancock, IN
| Hendricks, IN
| Johnson, IN
| Madison, IN
| Marion, IN
| Morgan, IN
| Shelby, IN
3500 | Iowa City, IA | 0.9657
| Johnson, IA
3520 | Jackson, MI | 0.9134
| Jackson, MI
3560 | Jackson, MS | 0.8812
| Hinds, MS
| Madison, MS
| Rankin, MS
3580 | Jackson, TN | 0.8796
| Madison, TN
| Chester, TN
3600 | Jacksonville, FL | 0.9208
| Clay, FL
| Duval, FL
| Nassau, FL
| St. Johns, FL
3605 | Jacksonville, NC | 0.7777
| Onslow, NC
3610 | Jamestown, NY | 0.7818
| Chautauqua, NY
3620 | Janesville-Beloit, WI | 0.9585
| Rock, WI
3640 | Jersey City, NJ | 1.1502
| Hudson, NJ
3660 | Johnson City-Kingsport-Bristol, TN-VA | 0.8272
| Carter, TN
| Hawkins, TN
| Sullivan, TN
| Unicoi, TN
| Washington, TN
| Bristol City, VA
| Scott, VA
| Washington, VA
3680 | Johnstown, PA | 0.8846
| Cambria, PA
| Somerset, PA
3700 | Jonesboro, AR | 0.7832
| Craighead, AR
3710 | Joplin, MO | 0.8148
| Jasper, MO
| Newton, MO
3720 | Kalamazoo-Battle Creek, MI | 1.0453
| Calhoun, MI
| Kalamazoo, MI
| Van Buren, MI
3740 | Kankakee, IL | 0.9902
| Kankakee, IL
3760 | Kansas City, KS-MO | 0.9527
| Johnson, KS
| Leavenworth, KS
| Miami, KS
| Wyandotte, KS
| Cass, MO
| Clay, MO
| Clinton, MO
| Jackson, MO
| Lafayette, MO
| Platte, MO
| Ray, MO
3800 | Kenosha, WI | 0.9611
| Kenosha, WI
3810 | Killeen-Temple, TX | 1.0119
| Bell, TX
| Coryell, TX
3840 | Knoxville, TN | 0.8340
| Anderson, TN
| Blount, TN
| Knox, TN
| Loudon, TN
| Sevier, TN
| Union, TN
3850 | Kokomo, IN | 0.9518
| Howard, IN
| Tipton, IN
3870 | La Crosse, WI-MN | 0.9211
| Houston, MN
| La Crosse, WI
3880 | Lafayette, LA | 0.8490
| Acadia, LA
| Lafayette, LA
| St. Landry, LA
| St. Martin, LA
3920 | Lafayette, IN | 0.8834
| Clinton, IN
| Tippecanoe, IN
3960 | Lake Charles, LA | 0.7399
| Calcasieu, LA
3980 | Lakeland-Winter Haven, FL | 0.9239
| Polk, FL
4000 | Lancaster, PA | 0.9259
| Lancaster, PA
4040 | Lansing-East Lansing, MI | 0.9934
| Clinton, MI
| Eaton, MI
| Ingham, MI
4080 | Laredo, TX | 0.8168
| Webb, TX
4100 | Las Cruces, NM | 0.8658
| Dona Ana, NM
4120 | Las Vegas, NV-AZ | 1.0796
| Mohave, AZ
| Clark, NV
| Nye, NV
4150 | Lawrence, KS | 0.8190
| Douglas, KS
4200 | Lawton, OK | 0.8996
| Comanche, OK
4243 | Lewiston-Auburn, ME | 0.9036
| Androscoggin, ME
4280 | Lexington, KY | 0.8866
| Bourbon, KY
| Clark, KY
| Fayette, KY
| Jessamine, KY
| Madison, KY
| Scott, KY
| Woodford, KY
4320 | Lima, OH | 0.9320
| Allen, OH
| Auglaize, OH
4360 | Lincoln, NE | 0.9626
| Lancaster, NE
4400 | Little Rock-North Little Rock, AR | 0.8906
| Faulkner, AR
| Lonoke, AR
| Pulaski, AR
| Saline, AR
4420 | Longview-Marshall, TX | 0.8922
| Gregg, TX
| Harrison, TX
| Upshur, TX
4480 | Los Angeles-Long Beach, CA | 1.1996
| Los Angeles, CA
4520 | Louisville, KY-IN | 0.9350
| Clark, IN
| Floyd, IN
| Harrison, IN
| Scott, IN
| Bullitt, KY
| Jefferson, KY
| Oldham, KY
4600 | Lubbock, TX | 0.8838
| Lubbock, TX
4640 | Lynchburg, VA | 0.8867
| Amherst, VA
| Bedford, VA
| Bedford City, VA
| Campbell, VA
| Lynchburg City, VA
4680 | Macon, GA | 0.8974
| Bibb, GA
| Houston, GA
| Jones, GA
| Peach, GA
| Twiggs, GA
4720 | Madison, WI | 1.0271
| Dane, WI
4800 | Mansfield, OH | 0.8690
| Crawford, OH
| Richland, OH
4840 | Mayaguez, PR | 0.4589
| Anasco, PR
| Cabo Rojo, PR
| Hormigueros, PR
| Mayaguez, PR
| Sabana Grande, PR
| San German, PR
4880 | McAllen-Edinburg-Mission, TX | 0.8566
| Hidalgo, TX
4890 | Medford-Ashland, OR | 1.0344
| Jackson, OR
4900 | Melbourne-Titusville-Palm Bay, FL | 0.9688
| Brevard, Fl
4920 | Memphis, TN-AR-MS | 0.8723
| Crittenden, AR
| DeSoto, MS
| Fayette, TN
| Shelby, TN
| Tipton, TN
4940 | Merced, CA | 0.9646
| Merced, CA
5000 | Miami, FL | 1.0059
| Dade, FL
5015 | Middlesex-Somerset-Hunterdon, NJ | 1.1075
| Hunterdon, NJ
| Middlesex, NJ
| Somerset, NJ
5080 | Milwaukee-Waukesha, WI | 0.9767
| Milwaukee, WI
| Ozaukee, WI
| Washington, WI
| Waukesha, WI
5120 | Minneapolis-St. Paul, MN-WI | 1.1017
| Anoka, MN
| Carver, MN
| Chisago, MN
| Dakota, MN
| Hennepin, MN
| Isanti, MN
| Ramsey, MN
| Scott, MN
| Sherburne, MN
| Washington, MN
| Wright, MN
| Pierce, WI
| St. Croix, WI
5140 | Missoula, MT | 0.9274
| Missoula, MT
5160 | Mobile, AL | 0.8163
| Baldwin, AL
| Mobile, AL
5170 | Modesto, CA | 1.0396
| Stanislaus, CA
5190 | Monmouth-Ocean, NJ | 1.1278
| Monmouth, NJ
| Ocean, NJ
5200 | Monroe, LA | 0.8396
| Ouachita, LA
5240 | Montgomery, AL | 0.7653
| Autauga, AL
| Elmore, AL
| Montgomery, AL
5280 | Muncie, IN | 1.0969
| Delaware, IN
5330 | Myrtle Beach, SC | 0.8440
| Horry, SC
5345 | Naples, FL | 0.9661
| Collier, FL
5360 | Nashville, TN | 0.9490
| Cheatham, TN
| Davidson, TN
| Dickson, TN
| Robertson, TN
| Rutherford TN
| Sumner, TN
| Williamson, TN
| Wilson, TN
5380 | Nassau-Suffolk, NY | 1.3932
| Nassau, NY
| Suffolk, NY
5483 | New Haven-Bridgeport-Stamford-Waterbury-Danbury, CT | 1.2297
| Fairfield, CT
| New Haven, CT
5523 | New London-Norwich, CT | 1.2063
| New London, CT
5560 | New Orleans, LA | 0.9295
| Jefferson, LA
| Orleans, LA
| Plaquemines, LA
| St. Bernard, LA
| St. Charles, LA
| St. James, LA
| St. John The Baptist, LA
| St. Tammany, LA
5600 | New York, NY | 1.4651
| Bronx, NY
| Kings, NY
| New York, NY
| Putnam, NY
| Queens, NY
| Richmond, NY
| Rockland, NY
| Westchester, NY
5640 | Newark, NJ | 1.1837
| Essex, NJ
| Morris, NJ
| Sussex, NJ
| Union, NJ
| Warren, NJ
5660 | Newburgh, NY-PA | 1.0847
| Orange, NY
| Pike, PA
5720 | Norfolk-Virginia Beach-Newport News, VA-NC | 0.8412
| Currituck, NC
| Chesapeake City, VA
| Gloucester, VA
| Hampton City, VA
| Isle of Wight, VA
| James City, VA
| Mathews, VA
| Newport News City, VA
| Norfolk City, VA
| Poquoson City, VA
| Portsmouth City, VA
| Suffolk City, VA
| Virginia Beach City VA
| Williamsburg City, VA
| York, VA
5775 | Oakland, CA | 1.4983
| Alameda, CA
| Contra Costa, CA
5790 | Ocala, FL | 0.9243
| Marion, FL
5800 | Odessa-Midland, TX | 0.9205
| Ector, TX
| Midland, TX
5880 | Oklahoma City, OK | 0.8822
| Canadian, OK
| Cleveland, OK
| Logan, OK
| McClain, OK
| Oklahoma, OK
| Pottawatomie, OK
5910 | Olympia, WA | 1.0677
| Thurston, WA
5920 | Omaha, NE-IA | 0.9572
| Pottawattamie, IA
| Cass, NE
| Douglas, NE
| Sarpy, NE
| Washington, NE
5945 | Orange County, CA | 1.1467
| Orange, CA
5960 | Orlando, FL | 0.9610
| Lake, FL
| Orange, FL
| Osceola, FL
| Seminole, FL
5990 | Owensboro, KY | 0.8159
| Daviess, KY
6015 | Panama City, FL | 0.9010
| Bay, FL
6020 | Parkersburg-Marietta, WV-OH | 0.8274
| Washington, OH
| Wood, WV
6080 | Pensacola, FL | 0.8176
| Escambia, FL
| Santa Rosa, FL
6120 | Peoria-Pekin, IL | 0.8645
| Peoria, IL
| Tazewell, IL
| Woodford, IL
6160 | Philadelphia, PA-NJ | 1.0937
| Burlington, NJ
| Camden, NJ
| Gloucester, NJ
| Salem, NJ
| Bucks, PA
| Chester, PA
| Delaware, PA
| Montgomery, PA
| Philadelphia, PA
6200 | Phoenix-Mesa, AZ | 0.9669
| Maricopa, AZ
| Pinal, AZ
6240 | Pine Bluff, AR | 0.7791
| Jefferson, AR
6280 | Pittsburgh, PA | 0.9741
| Allegheny, PA
| Beaver, PA
| Butler, PA
| Fayette, PA
| Washington, PA
| Westmoreland, PA
6323 | Pittsfield, MA | 1.0288
| Berkshire, MA
6340 | Pocatello, ID | 0.9076
| Bannock, ID
6360 | Ponce, PR | 0.5006
| Guayanilla, PR
| Juana Diaz, PR
| Penuelas, PR
| Ponce, PR
| Villalba, PR
| Yauco, PR
6403 | Portland, ME | 0.9748
| Cumberland, ME
| Sagadahoc, ME
| York, ME
6440 | Portland-Vancouver, OR-WA | 1.0910
| Clackamas, OR
| Columbia, OR
| Multnomah, OR
| Washington, OR
| Yamhill, OR
| Clark, WA
6483 | Providence-Warwick-Pawtucket, RI | 1.0864
| Bristol, RI
| Kent, RI
| Newport, RI
| Providence, RI
| Washington, RI
6520 | Provo-Orem, UT | 1.0029
| Utah, UT
6560 | Pueblo, CO | 0.8815
| Pueblo, CO
6580 | Punta Gorda, FL | 0.9613
| Charlotte, FL
6600 | Racine, WI | 0.9246
| Racine, WI
6640 | Raleigh-Durham-Chapel Hill, NC | 0.9646
| Chatham, NC
| Durham, NC
| Franklin, NC
| Johnston, NC
| Orange, NC
| Wake, NC
6660 | Rapid City, SD | 0.8865
| Pennington, SD
6680 | Reading, PA | 0.9152
| Berks, PA
6690 | Redding, CA | 1.1664
| Shasta, CA
6720 | Reno, NV | 1.0550
| Washoe, NV
6740 | Richland-Kennewick-Pasco, WA | 1.1460
| Benton, WA
| Franklin, WA
6760 | Richmond-Petersburg, VA | 0.9617
| Charles City County, VA
| Chesterfield, VA
| Colonial Heights City, VA
| Dinwiddie, VA
| Goochland, VA
| Hanover, VA
| Henrico, VA
| Hopwell City, VA
| New Kent, VA
| Petersburg City, VA
| Powhatan, VA
| Prince George, VA
| Richmond City, VA
6780 | Riverside-San Bernardino, CA | 1.1239
| Riverside, CA
| San Bernardino, CA
6800 | Roanoke, VA | 0.8750
| Botetourt, VA
| Roanoke, VA
| Roanoke City, VA
| Salem City, VA
6820 | Rochester, MN | 1.1315
| Olsted, MN
6840 | Rochester, NY | 0.9182
| Genesee, NY
| Livingston, NY
| Monroe, NY
| Ontario, NY
| Orleans NY
| Wayne, NY
6880 | Rockford, IL | 0.8819
| Boone, IL
| Ogle, IL
| Winnebago, IL
6895 | Rocky Mount, NC | 0.8849
| Edgecombe, NC
| Nash, NC
6920 | Sacramento, CA | 1.1950
| El Dorado, CA
| Placer, CA
| Sacramento, CA
6960 | Saginaw-Bay City-Midland, MI | 0.9575
| Bay, MI
| Midland, MI
| Saginaw, MI
6980 | St. Cloud, MN | 1.0016
| Benton, MN
| Stearns, MN
7000 | St. Joseph, MO | 0.9071
| Andrew, MO
| Buchanan, MO
7040 | St. Louis, MO-IL | 0.9049
| Clinton, IL
| Jersey, IL
| Madison, IL
| Monroe, IL
| St. Clair, IL
| Franklin, MO
| Jefferson, MO
| Lincoln, MO
| St. Charles, MO
| St. Louis, MO
| St. Louis City, MO
| Warren, MO
7080 | Salem, OR | 1.0189
| Marion, OR
| Polk, OR
7120 | Salinas, CA | 1.4502
| Monterey, CA
7160 | Salt Lake City-Ogden, UT | 0.9807
| Davis, UT
| Salt Lake, UT
| Weber, UT
7200 | San Angelo, TX | 0.8083
| Tom Green, TX
7240 | San Antonio, TX | 0.8580
| Bexar, TX
| Comal, TX
| Guadalupe, TX
| Wilson, TX
7320 | San Diego, CA | 1.1784
| San Diego, CA
7360 | San Francisco, CA | 1.4156
| Marin, CA
| San Francisco, CA
| San Mateo, CA
7400 | San Jose, CA | 1.3656
| Santa Clara, CA
7440 | San Juan-Bayamon, PR | 0.4690
| Aguas Buenas, PR
| Barceloneta, PR
| Bayamon, PR
| Canovanas, PR
| Carolina, PR
| Catano, PR
| Ceiba, PR
| Comerio, PR
| Corozal, PR
| Dorado, PR
| Fajardo, PR
| Florida, PR
| Guaynabo, PR
| Humacao, PR
| Juncos, PR
| Los Piedras, PR
| Loiza, PR
| Luguillo, PR
| Manati, PR
| Morovis, PR
| Naguabo, PR
| Naranjito, PR
| Rio Grande, PR
| San Juan, PR
| Toa Alta, PR
| Toa Baja, PR
| Trujillo Alto, PR
| Vega Alta, PR
| Vega Baja, PR
| Yabucoa, PR
7460 | San Luis Obispo-Atascadero-Paso Robles, CA | 1.0673
| San Luis Obispo, CA
7480 | Santa Barbara-Santa Maria-Lompoc, CA | 1.0597
| Santa Barbara, CA
7485 | Santa Cruz-Watsonville, CA | 1.4040
| Santa Cruz, CA
7490 | Santa Fe, NM | 1.0537
| Los Alamos, NM
| Santa Fe, NM
7500 | Santa Rosa, CA | 1.2646
| Sonoma, CA
7510 | Sarasota-Bradenton, FL | 0.9809
| Manatee, FL
| Sarasota, FL
7520 | Savannah, GA | 0.9697
| Bryan, GA
| Chatham, GA
| Effingham, GA
7560 | Scranton-Wilkes-Barre-Hazleton, PA | 0.8421
| Columbia, PA
| Lackawanna, PA
| Luzerne, PA
| Wyoming, PA
7600 | Seattle-Bellevue-Everett, WA | 1.0996
| Island, WA
| King, WA
| Snohomish, WA
7610 | Sharon, PA | 0.7928
| Mercer, PA
7620 | Sheboygan, WI | 0.8379
| Sheboygan, WI
7640 | Sherman-Denison, TX | 0.8694
| Grayson, TX
7680 | Shreveport-Bossier City, LA | 0.8750
| Bossier, LA
| Caddo, LA
| Webster, LA
7720 | Sioux City, IA-NE | 0.8473
| Woodbury, IA
| Dakota, NE
7760 | Sioux Falls, SD | 0.8790
| Lincoln, SD
| Minnehaha, SD
7800 | South Bend, IN | 1.0000
| St. Joseph, IN
7840 | Spokane, WA | 1.0513
| Spokane, WA
7880 | Springfield, IL | 0.8685
| Menard, IL
| Sangamon, IL
7920 | Springfield, MO | 0.8488
| Christian, MO
| Greene, MO
| Webster, MO
8003 | Springfield, MA | 1.0637
| Hampden, MA
| Hampshire, MA
8050 | State College, PA | 0.9038
| Centre, PA
8080 | Steubenville-Weirton, OH-WV | 0.8548
| Jefferson, OH
| Brooke, WV
| Hancock, WV
8120 | Stockton-Lodi, CA | 1.0629
| San Joaquin, CA
8140 | Sumter, SC | 0.8271
| Sumter, SC
8160 | Syracuse, NY | 0.9549
| Cayuga, NY
| Madison, NY
| Onondaga, NY
| Oswego, NY
8200 | Tacoma, WA | 1.1564
| Pierce, WA
8240 | Tallahassee, FL | 0.8545
| Gadsden, FL
| Leon, FL
8280 | Tampa-St. Petersburg-Clearwater, FL | 0.8982
| Hernando, FL
| Hillsborough, FL
| Pasco, FL
| Pinellas, FL
8320 | Terre Haute, IN | 0.8304
| Clay, IN
| Vermillion, IN
| Vigo, IN
8360 | Texarkana, AR- Texarkana, TX | 0.8363
| Miller, AR
| Bowie, TX
8400 | Toledo, OH | 0.9832
| Fulton, OH
| Lucas, OH
| Wood, OH
8440 | Topeka, KS | 0.9117
| Shawnee, KS
8480 | Trenton, NJ | 1.0137
| Mercer, NJ
8520 | Tucson, AZ | 0.8794
| Pima, AZ
8560 | Tulsa, OK | 0.8454
| Creek, OK
| Osage, OK
| Rogers, OK
| Tulsa, OK
| Wagoner, OK
8600 | Tuscaloosa, AL | 0.8064
| Tuscaloosa, AL
8640 | Tyler, TX | 0.9404
| Smith, TX
8680 | Utica-Rome, NY | 0.8560
| Herkimer, NY
| Oneida, NY
8720 | Vallejo-Fairfield-Napa, CA | 1.2847
| Napa, CA | 1.1030
| Solano, CA
8735 | Ventura, CA
| Ventura, CA
8750 | Victoria, TX | 0.8154
| Victoria, TX
8760 | Vineland-Millville-Bridgeton, NJ | 1.0501
| Cumberland, NJ
8780 | Visalia-Tulare-Porterville, CA | 0.9551
| Tulare, CA
8800 | Waco, TX | 0.8314
| McLennan, TX
8840 | Washington, DC-MD-VA-WV | 1.0755
| District of Columbia, DC
| Calvert, MD
| Charles, MD
| Frederick, MD
| Montgomery, MD
| Prince Georges, MD
| Alexandria City, VA
| Arlington, VA
| Clarke, VA
| Culpeper, VA
| Fairfax, VA
| Fairfax City, VA
| Falls Church City, VA
| Fauquier, VA
| Fredericksburg City, VA
| King George, VA
| Loudoun, VA
| Manassas City, VA
| Manassas Park City, VA
| Prince William, VA
| Spotsylvania, VA
| Stafford, VA
| Warren, VA
| Berkeley, WV
| Jefferson, WV
8920 | Waterloo-Cedar Falls, IA | 0.8404
| Black Hawk, IA
8940 | Wausau, WI | 0.9418
| Marathon, WI
8960 | West Palm Beach-Boca Raton, FL | 0.9682
| Palm Beach, FL
9000 | Wheeling, WV-OH | 0.7733
| Belmont, OH
| Marshall, WV
| Ohio, WV
9040 | Wichita, KS | 0.9544
| Butler, KS
| Harvey, KS
| Sedgwick, KS
9080 | Wichita Falls, TX | 0.7668
| Archer, TX
| Wichita, TX
9140 | Williamsp;port, PA | 0.8392
| Lycoming, PA
9160 | Wilmington-Newark, DE-MD | 1.1191
| New Castle, DE
| Cecil, MD
9200 | Wilmington, NC | 0.9402
| New Hanover, NC
| Brunswick, NC
9260 | Yakima, WA | 0.9907
| Yakima, WA
9270 | Yolo, CA | 1.0199
| Yolo, CA
9280 | York, PA | 0.9264
| York, PA
9320 | Youngstown-Warren, OH | 0.9543
| Columbiana, OH
| Mahoning, OH
| Trumbull, OH
9340 | Yuba City, CA | 1.0706
| Sutter, CA
| Yuba, CA
9360 | Yuma, AZ | 0.9529
| Yuma, AZ

Dated: June 28, 2001.
Brian P. Burns,
Deputy Assistant Secretary for Information Resources Management.

[FR Doc. 01-16724 Filed 6-28-01; 3:13 pm]

BILLING CODE 4120-01-P